DEPARTMENT OF COMMERCE

International Trade Administration

[A-570-126; C-570-127]

Non-Refillable Steel Cylinders From the People's Republic of China: Final Affirmative Determination of Circumvention of the Antidumping and Countervailing Duty Orders

AGENCY: Enforcement and Compliance, International Trade Administration, Department of Commerce.

SUMMARY: The U.S. Department of Commerce (Commerce) determines that non-refillable steel cylinders with water capacities between 100 and 299 cubic inches produced in the People's Republic of China (China) and exported to the United States, are circumventing the antidumping duty (AD) and countervailing duty (CVD) orders on certain non-refillable steel cylinders (non-refillable cylinders) from China.

DATES: Applicable March 12, 2024.

FOR FURTHER INFORMATION CONTACT: Alex Cipolla, AD/CVD Operations, Office III, Enforcement and Compliance, International Trade Administration, U.S. Department of Commerce, 1401 Constitution Avenue NW, Washington, DC 20230; telephone: (202) 482-4956.

SUPPLEMENTARY INFORMATION:

Background

On May 11, 2021, Commerce published in the Federal Register the AD and CVD orders on non-refillable cylinders from China.¹ On June 1, 2023, Commerce published the initiation of this circumvention inquiry.² On November 21, 2023, Commerce published the affirmative Preliminary Determination of the circumvention inquiry of the AD and CVD Orders on non-refillable cylinders from China with respect to non-refillable cylinders with water capacities between 100 and 299 cubic inches produced in China and exported to the United States.³ Although we invited parties to comment on the Preliminary Determination of this inquiry, we received no comments. Commerce conducted this circumvention inquiry pursuant to section 781(c) of the Tariff Act of 1930, as amended (the Act) and 19 CFR 351.226(j).

¹ See Certain Non-Refillable Steel Cylinders from the People's Republic of China: Amended Final Antidumping Duty Determination and Antidumping Duty and Countervailing Duty Orders, 86 FR 25839 (May 11, 2021) (Orders).

² See Non-Refillable Steel Cylinders from the People's Republic of China: Initiation of Circumvention Inquiry of the Antidumping and Countervailing Duty Orders; Water Capacities Between 100 and 299 Cubic Inches, 88 FR 35839 (June 1, 2023) (Initiation Notice).

³ See Non-Refillable Steel Cylinders from the People's Republic of China: Affirmative Preliminary Determination of Circumvention of the Antidumping and Countervailing Duty Orders, 88 FR 81051 (November 21, 2023) (Preliminary Determination), and accompanying Preliminary Decision Memorandum.

Scope of the Orders

The merchandise covered by these Orders is certain seamed (welded or brazed), non-refillable steel cylinders meeting the requirements of, or produced to meet the requirements of, U.S. Department of Transportation (USDOT) Specification 39, TransportCanada Specification 39M, or United Nations pressure receptacle standard ISO 11118 and otherwise meeting the description provided below (non-refillable steel cylinders). The subject non-refillable steel cylinders are portable and range from 300-cubic inch (4.9 liter) water capacity to 1,526-cubic inch (25 liter) water capacity. Subject non-refillable steel cylinders may be imported with or without a valve and/or pressure release device and unfilled at the time of importation. Non-refillable steel cylinders filled with pressurized air otherwise meeting the physical description above are covered by these Orders.

Specifically excluded are seamless non-refillable steel cylinders.

The merchandise subject to these Orders is properly classified under statistical reporting numbers 7311.00.0060 and 7311.00.0090 of the Harmonized Tariff Schedule of the United States (HTSUS). The merchandise may also enter under HTSUS statistical reporting numbers 7310.29.0025 and 7310.29.0050. Although the HTSUS statistical reporting numbers are provided for convenience and customs purposes, the written description of the merchandise is dispositive.

Merchandise Subject to the Circumvention Inquiry

This circumvention inquiry covers non-refillable cylinders with water capacities between 100 and 299 cubic inches produced in China and exported to the United States.

Statutory and Regulatory Framework

We conducted this circumvention inquiry pursuant to section 781(c) of the Act and 19 CFR 351.226(j). For a complete description of the methodology underlying the Preliminary Determination, see the Preliminary Decision Memorandum. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

Affirmative Final Determination of Circumvention

As detailed in the Preliminary Determination, we determine that non-refillable cylinders with water capacities between 100 and 299 cubic inches produced in China and exported to the United States constitute merchandise altered in form or appearance in such minor respects that they should be included within the scope of the Orders, pursuant to section 781(c) of the Act and 19 CFR 351.226(j). Commerce continues to apply this affirmative circumvention finding on a country-wide basis. Because we received no comments regarding our Preliminary Determination, our final determination remains unchanged from our Preliminary Determination, and no memorandum accompanies this notice. Therefore, we determine that it is appropriate to include this merchandise within the scope of the Orders and to instruct U.S. Customs and Border Protection (CBP) to continue to suspend any entries of non-refillable cylinders with water capacities between 100 and 299 cubic inches produced in China and exported to the United States.

Suspension of Liquidation and Cash Deposit Requirements

In accordance with 19 CFR 351.226(l)(3), based on this final determination in this circumvention inquiry, Commerce will direct CBP to begin or continue to suspend liquidation and to require cash deposits of estimated duties equal to the AD and CVD rates in effect for non-refillable cylinders from China with water capacities between 100 and 299 cubic inches produced in China and exported to the United States that are entered, or withdrawn from warehouse, for consumption on or after June 1, 2023 (i.e., the date of the initiation of this inquiry).⁴ The suspension of liquidation and cash deposit requirements will remain in effect until further notice.

⁴ See Initiation Notice.

Administrative Protective Order

This notice will serve as the only reminder to parties subject to administrative protective order (APO) of their responsibility concerning the destruction of proprietary information disclosed under APO in accordance with 19 CFR 351.305(a)(3). Timely written notification of return/destruction of APO materials or conversion to judicial protective order is hereby requested. Failure to comply with the regulations and the terms of an APO is a sanctionable violation.

Notification to Interested Parties

Commerce is issuing and publishing this affirmative final determination of circumvention in accordance with sections 781(c) of the Act and 19 CFR 351.226(g)(2).

Dated: March 6, 2024.
Ryan Majerus,
Deputy Assistant Secretary for Policy and Negotiations, performing the non-exclusive functions and duties of the Assistant Secretary for Enforcement and Compliance.

[FR Doc. 2024-05227 Filed 3-11-24; 8:45 am]

BILLING CODE 3510-DS-P